DEPARTMENT OF ENERGY

Energy Information Administration

Agency Information Collection Proposed New Survey

AGENCY: U.S. Energy Information Administration (EIA), U.S. Department of Energy (DOE).

ACTION: Notice.

SUMMARY: EIA submitted an information collection request for clearance of the Residential Utility Disconnections Survey as required by the Paperwork Reduction Act of 1995. The collection requests a three-year clearance of a new data collection survey—Form EIA-112. Form EIA-112 is an annual survey that collects information on the number of monthly natural gas and electric service final notices, disconnections, and reconnections for bill non-payment across residential customers.

DATES: Comments on this information collection must be received no later than November 12, 2024. Written comments and recommendations for the proposed information collection should be sent within 30 days of publication of this notice to www.reginfo.gov/public/do/PRAMain. Find this particular information collection by selecting “Currently under 30-day Review—Open for Public Comments” or by using the search function.

FOR FURTHER INFORMATION CONTACT: Kenneth Pick, EIA Clearance Officer, at (202) 586-5562. The form and instructions are available at https://www.eia.gov/survey/.

SUPPLEMENTARY INFORMATION: This information collection request contains:

(1) OMB No.: New;

(2) Information Collection Request Title: Residential Utility Disconnections Survey;

(3) Type of Request: New;

(4) Purpose: Form EIA-112 is an annual form that will collect 12 months of data from electric and natural gas providers about final termination notices sent to residential customers due to bill nonpayment, service disconnections of residential customers due to bill nonpayment, and service reconnections of residential customers who were disconnected due to bill nonpayment.

No national data is currently collected on this information. Some States collect some of the data described above, but the data are inconsistent, and publication is not uniform. Form EIA-112 aims to better inform State and Federal policymakers on utility disconnections by providing reliable data that can help inform appropriate levels of budgetary support for various assistance programs across the United States. The results of the survey will be published on the EIA website at the aggregated national and State level, as well as at the utility level for respondents.

EIA will conduct periodic censuses of all natural gas and electric utilities above a certain size threshold. These censuses will cover respondents that complete Form EIA-176 and Form EIA-861, excluding the small electric utilities receiving Form EIA-861S. To reduce the respondent burden of this proposed data collection, while also considering data quality, for the years in between censuses, EIA will use cut-off samples from Form EIA-857 and Form EIA-861M, based on utility size and State coverage. This strategy will allow EIA to reduce respondent burden on smaller utilities, while also producing population estimates at the State level by modeling data for the utilities on the frames that were subjected to sampling but not selected.

(5) Annual Estimated Number of Respondents: 1,130;

(6) Annual Estimated Number of Total Responses: 1,130;

(7) Annual Estimated Number of Burden Hours: 2,260;

(8) Annual Estimated Reporting and Recordkeeping Cost Burden: EIA estimates that there are no capital and start-up costs associated with this data collection. The information is maintained during the normal course of business. The cost of the burden hours is estimated to be $206,021.60 (2,260 burden hours times $91.16 per hour). Other than the cost of burden hours, EIA estimates that there are no additional costs for generating, maintaining, and providing this information.

Statutory Authority: 15 U.S.C. 772(b) and 42 U.S.C. 7101 et seq.

Signed in Washington, DC, on October 8, 2024.
Samson A. Adeshiyan,
Director, Office of Statistical Methods and Research, U.S. Energy Information Administration.

[FR Doc. 2024-23621 Filed 10-10-24; 8:45 am]

BILLING CODE 6450-01-P